DEPARTMENT OF DEFENSE

Department of the Army

Notice of Availability of a Novel Composite Solder Technology for Exclusive, Partially Exclusive or Non-exclusive Licenses

AGENCY: Department of the Army, DoD.

ACTION: Notice of availability.

SUMMARY: The Department of the Army announces the general availability of exclusive, partially exclusive or non-exclusive licenses relative to a novel Composite Solder technology as described in U.S. Patent No. 5,520,752; entitled “Composite Solders”; May 28, 1996; Lucey, et al. Any license shall comply with 35 U.S.C. 209 and 37 CFR part 404.

FOR FURTHER INFORMATION CONTACT: Michael D. Rausa, U.S. Army Research Laboratory, Office of Research and Technology Applications, ATTN: AMSRL-DP-T/Bldg. 434. Aberdeen Proving Ground, MD 21005-5425, telephone: (410) 278-5028.

SUPPLEMENTARY INFORMATION: None.

Brenda S. Bowen,
Army Federal Register Liaison Officer.

[FR Doc. 05-16540 Filed 8-19-05; 8:45 am]

BILLING CODE 3710-08-M